DEPARTMENT OF HEALTH AND HUMAN SERVICES

Centers for Disease Control and Prevention

Disease, Disability, and Injury Prevention and Control Special Emphasis Panel: Collection of Specimen Panels for Validation for Incidence Assays, Contract Solicitation Number 2003-N-00872; Correction

Summary: This notice was published in the Federal Register on July 8, 2003, Volume 68, Number 130, Page 40676. The meeting date, time and location have been revised.

In accordance with section 10(a)(2) of the Federal Advisory Committee Act (Pub. L. 92-463), the Centers for Disease Control and Prevention (CDC) announces the following meeting:

Name: Disease, Disability, and Injury Prevention and Control Special Emphasis Panel (SEP): Collection of Specimen Panels for Validation for Incidence Assays, Contract Solicitation Number 2003-N-00872.

Action: The meeting times and dates have been revised as follows:

Times and Dates: 12:30 p.m.-1 p.m., July 25, 2003 (Open); 1 p.m.-3:30 p.m., July 25, 2003 (Closed).

Action: The meeting place has been revised as follows:

Place: Teleconference Number: 1-888-677-1828 passcode 5772091 for the Open portion of the meeting and 1-888-829-8669 for the Closed portion of the meeting.

Status: Portions of the meeting will be closed to the public in accordance with provisions set forth in section 552b(c) (4) and (6), Title 5 U.S.C., and the Determination of the Director, Management Analysis and Services Office, CDC, pursuant to Pub. L. 92-463.

Matters to be Discussed: The meeting will include the review, discussion, and evaluation of applications received in response to Contract Solicitation Number 2003-N-00872.

For Further Information Contact: Esther Sumartojo, Ph.D., Deputy Associate Director for Science, National Center for HIV, STD, and TB Prevention, CDC, 1600 Clifton Road, NE, MS-E07, Atlanta, GA 30333, Telephone 404.639.8006.

The Director, Management Analysis and Services Office, has been delegated the authority to sign Federal Register notices pertaining to announcements of meetings and other committee management activities, for both CDC and the Agency for Toxic Substances and Disease Registry.

Dated: July 17, 2003.
Alvin Hall,
Director, Management Analysis and Services Office, Centers for Disease Control and Prevention (CDC).

[FR Doc. 03-18793 Filed 7-22-03; 8:45 am]

BILLING CODE 4163-18-P